NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives notice of the scheduling of meetings for the transaction of NSB business as follows:

TIME AND DATE: Wednesday, July 29, 2020 from 11:00 a.m. to 6:45 p.m., and Thursday, July 30, 2020 from 11:00 a.m. to 4:00 p.m. EDT.

PLACE: These meetings will be held by videoconference. There will be no in-person meetings to attend. The public may observe the public meetings, which will be streamed to the NSF You Tube channel. For meetings on Wednesday, July 29, go to: https://youtu.be/3CXXjWbwsYE. For meetings on Thursday, July 30, go to: https://youtu.be/rjs0ny0zgR4.

STATUS: Some of these meetings will be open to the public. Others will be closed to the public. See full description below.

MATTERS TO BE CONSIDERED:

Wednesday, July 29, 2020

Plenary Board Meeting

Open session: 11:00 a.m.-12:10 p.m.; 12:20 p.m.-1:35 p.m.

• NSB Chair's Welcome

• Swearing-In New Members of the Class 2020-2026

• NSF Director's Remarks

• NSB Chair Activity Summary

• Vision 2030 Implementation Working Group Update

• NSF HBCU Programs Overview

• Framing Black Experiences in Science and Engineering Panel Discussion

Committee on External Engagement (EE)

Open session: 1:35 p.m.-2:15 p.m.

• Committee Chair's Opening Remarks

• Approval of Prior Minutes

• NSB Messages on the “Missing Millions” and Engaging Partners on Vision 2030 Roadmap Actions

• Update on NSB Resources for External Engagement

• Honorary Awards 2021 Call for Nominations

Committee on Oversight (CO)

Open session: 2:45 p.m.-4:05 p.m.

• Committee Chair's Opening Remarks

• Approval of Committee Meeting Minutes

• Update on Merit Review Digest

• Vote to approve

• Discussion of Broader Impacts

• Inspector General's Update

• Chief Financial Officer's Update

• Presentation—Enterprise Risk Management

Committee on National Science and Engineering Policy (SEP)

Open session: 4:15 p.m.—5:05 p.m.

• Committee Chair's Opening Remarks

• Approval of Prior Minutes

• Update on planning for Indicators 2022

• Impacts of COVID-19 on Indicators Data Availability

• Impacts of COVID-19 on National and International Statistics

• Discussion of Indicators-Inspired Policy Messages to Accompany Vision 2030

Committee on Strategy (CS)

Open session: 5:15 p.m.-6:45 p.m.

• Committee Chair's Opening Remarks

• Approval of Prior Minutes

• Update on FY 2020 and FY 2021 Appropriations

• NSF Skilled Technical Workforce Portfolio

• NSF Spectrum Management, Advance Wireless, and Spectrum Innovation Initiative

Thursday, July 30, 2020

Committee on Awards and Facilities (A&F)

Open session: 11:00 a.m.-12:00 p.m.

• Committee Chair's Opening Remarks

• Approval of Prior Minutes

• Rolling Calendar Year 2020-2021 Schedule of Planned Action and Context Items

• Information Item: COVID-19 Impacts on Polar Science

• Written Item: Update on National Center for Atmospheric Research O&M

Committee on Awards and Facilities (A&F)

Closed session: 12:15 p.m.-2:00 p.m.

• Committee Chair's Opening Remarks

• Approval of Prior Minutes

• Action Item: National Optical-Infrared Astronomy Research Laboratory

• Written Item: Astronomy Decadal Survey

• Information Item: COVID-19 and Major Facilities Construction

• Information Item: National High Magnetic Field Laboratory Mid-term Update

Committee on Strategy (CS)

Closed session: 2:30 p.m.-3:05 p.m.

• Committee Chair's Opening Remarks

• Approval of Prior Minutes

• Update on FY 2022 Budget Development

Plenary Board

Closed session: 3:05 p.m.-3:15 p.m.

• NSB Chair's Opening Remarks

• Approval of Prior Minutes

• NSF Director's Remarks

• Closed Committee Reports

• Vote: NOIRLab

Plenary Board

Executive Closed session: 3:15 p.m.-3:30 p.m.

• NSB Chair's Opening Remarks

• Approval of Prior Minutes

• NSF Director's Remarks

○ Personnel updates

• Board Member Award Affirmation

Plenary Board

Open Session: 3:30 p.m.-4:00 p.m.

• NSB Chair's Opening Remarks

• Approval of Prior Minutes

• NSF Director's Remarks

○ Senior Staff Updates

○ Office of Legislative and Public Affairs Update

• Open Committee Reports

• Votes on NSB CY 2021 Schedule and 2019 Merit Review Digest

Meeting Adjourns: 4:00 p.m.

MEETINGS THAT ARE OPEN TO THE PUBLIC:

Wednesday, July 29, 2020

11:00 a.m.-12:10 p.m. Plenary NSB

12:20 p.m.-1:35 p.m. Plenary NSB

1:35 p.m.-2:15 p.m. EE

2:45 p.m.-4:05 p.m. CO

4:15 p.m.-5:05 p.m. SEP

5:15 p.m.-6:45 p.m. CS

Thursday, July 30, 2020

11:00 a.m.-12:00 p.m. A&F

3:30 p.m.-4:00 p.m. Plenary

MEETINGS THAT ARE CLOSED TO THE PUBLIC:

Thursday, July 30, 2020

12:15 p.m.-2:00 p.m. A&F

2:30 p.m.-3:05 p.m. CS

3:05-3:15 p.m. Plenary

3:15 p.m.-3:30 p.m. Plenary Executive

CONTACT PERSONS FOR MORE INFORMATION: The NSB Office contact is Brad Gutierrez, bgutierr@nsf.gov, 703-292-7000. The NSB Public Affairs contact is Nadine Lymn, nlymn@nsf.gov, 703-292-2490. The following persons will be available to provide technical support in accessing the YouTube video: Angel Ntumy (antumy@associates.nsf.gov); Phillip Moulden (pmoulden@associates.nsf.gov).

Supplemental Information: Public portions of meetings will be streamed on YouTube so the public can view them. For meetings on Wednesday, July 29 go to: 2020: https://youtu.be/3CXXjWbwsYE. For meetings on Thursday, July 30, go to: https://youtu.be/rjs0ny0zgR4.

Please refer to the NSB website for additional information. You will find any updated meeting information and schedule updates (time, place, subject matter, or status of meeting) at https://www.nsf.gov/nsb/meetings/notices.jsp#sunshine.

Members of the public are advised that the NSB provides some flexibility around meeting times. A meeting may be allowed to run over by as much as 15 minutes if the Chair decides the extra time is warranted. The next meeting will start no later than 15 minutes after the noticed start time. If a meeting ends early, the next meeting may start up to 15 minutes earlier than the noticed start time. At no point will NSB or committee meetings vary from noticed times by more than 15 minutes. Open meetings can also be watched in their entirety later through the YouTube link.

Chris Blair,
Executive Assistant to the National Science Board Office.

[FR Doc. 2020-16252 Filed 7-22-20; 4:15 pm]

BILLING CODE 7555-01-P